DEPARTMENT OF ENERGY

Federal Energy Regulatory Commission

[Project Nos. 14261-000, 14268-000, 14277-000, 14281-000]

Lock+ Hydro Friends Fund XVIII, Upper Hydroelectric, LLC, FFP Project 95, LLC, Riverbank Hydro No. 25, LLC; Notice Announcing Preliminary Permit Drawing

The Commission has received four preliminary permit applications deemed filed on September 1, 2011, at 8:30 a.m.,¹ for proposed projects to be located at the U.S. Army Corps of Engineers' John C. Stennis Lock and Dam on the Tennessee-Tombigbee Waterway in Lowndes County, Mississippi. The applications were filed by Lock+ Hydro Friends Fund XVIII for Project No. 14261-000, Upper Hydroelectric, LLC for Project No. 14268-000, FFP Project 95, LLC for Project No. 14277-000, and Riverbank Hydro No. 25, LLC for Project No. 14281-000.

¹ Under the Commission's Rules of Practice and Procedure, any document received after regular business hours is considered filed at 8:30 a.m. on the next regular business day. 18 CFR 385.2001(a)(2) (2011).

On February 28, 2012, at 9 a.m. (eastern time), the Secretary of the Commission, or her designee, will conduct a random drawing to determine the filing priority of the applicants identified in this notice. The Commission will select among competing permit applications as provided in section 4.37 of its regulations.² The priority established by this drawing will be used to determine which applicant, among those with identical filing times, will be considered to have the first-filed application.

² 18 CFR 4.37 (2011).

The drawing is open to the public and will be held in room 2C, the Commission Meeting Room, located at 888 First St. NE., Washington, DC 20426. A subsequent notice will be issued by the Secretary announcing the results of the drawing.

Dated: February 16, 2012.
Nathaniel J. Davis, Sr.,
Deputy Secretary.

[FR Doc. 2012-4189 Filed 2-22-12; 8:45 am]

BILLING CODE 6717-01-P